OFFICE OF MANAGEMENT AND BUDGET

2 CFR Part 200

Guidance for Reporting and Use of Information Concerning Recipient Integrity and Performance; Corrections

AGENCY: Executive Office of the President, Office of Management and Budget.

ACTION: Correcting amendments.

SUMMARY: The Office of Management and Budget (OMB) is correcting the final guidance that appeared in the Federal Register on July 22, 2015 (80 FR 43301). OMB is amending the guidance to make technical corrections where necessary. The final guidance is revised to reflect that due to the 14 day delay of the publically available information entered into the OMB-designated integrity and performance system accessible through SAM (currently the Federal Awardee Performance and Integrity Information System (FAPIIS)), Federal awarding agencies should review the non-public segment of the system when conducting their risk review as described in the guidance. This will ensure that Federal awarding agencies have the most current information available when completing the review.

DATES: Effective date: November 9, 2015.

The applicability date of the final guidance remains January 1, 2016.

FOR FURTHER INFORMATION CONTACT: Rhea Hubbard, Office of Federal Financial Management, rhubbard@omb.eop.gov, or via telephone at (202) 395-3993.

SUPPLEMENTARY INFORMATION: On July 22, 2015 (80 FR 43301), OMB issued a number of changes to Title 2 of the Code of Federal Regulations (2 CFR part 180 and 2 CFR part 200). These changes provided guidance to Federal agencies to implement Section 872 of the Duncan Hunter National Defense Authorization Act for Fiscal Year 2009. As Section 872 required, OMB and the General Services Administration (GSA) have established an integrity and performance system that includes governmentwide data with specified information related to the integrity and performance of entities awarded Federal grants and contracts. This is the second set of corrections. The first set of corrections was published in the Federal Register on July 30, 2015 (80 FR 45395) to advance the effective date to July 30, 2015 and reflect that the applicability date is January 1, 2016. This set of corrections reflects that Federal awarding agencies should check the non-public segment of the OMB-designated integrity and performance system accessible through SAM when conducting their risk review.

List of Subjects in 2 CFR Part 200

Accounting, Auditing, Colleges and universities, State and local governments, Grant programs, Grants administration, Hospitals, Indians, Nonprofit organizations, Reporting and recordkeeping requirements.

Mark Reger,
Deputy Controller.

Under the authority of the Chief Financial Officer Act of 1990 (31 U.S.C. 503), the Office of Management and Budget amends 2 CFR part 200 by making the following correcting amendments:

PART 200—UNIFORM ADMINISTRATIVE REQUIREMENTS, COST PRINCIPLES, AND AUDIT REQUIREMENTS FOR FEDERAL AWARDS

1. The authority citation for part 200 continues to read as follows:

Authority: 31 U.S.C. 503.

§ 200.205 [Amended]

2. Amend § 200.205 paragraph (a)(2) by removing “publicly available information in” and adding, in its place “non-public segment of”.

[FR Doc. 2015-28441 Filed 11-6-15; 8:45 am]

BILLING CODE 3110-01-P.